DEPARTMENT OF TRANSPORTATION

[Docket No. DOT-OST-2016-0007]

Office of the Assistant Secretary for Research and Technology (OST-R) Notice of Request for Clearance of a Revision of a Currently Approved Information Collection: National Census of Ferry Operators

AGENCY: Bureau of Transportation Statistics (BTS) Office of the Assistant Secretary for Research and Technology (OST-R), DOT.

ACTION: Notice

SUMMARY: In accordance with the requirements of section 3506(c)(2)(A) of the Paperwork Reduction Act of 1995, this notice announces the intention of the BTS to request the Office of Management and Budget's (OMB's) approval for an information collection related to the nation's ferry operations. The information collected will be used to produce a descriptive database of existing ferry operations. A summary report of survey findings will also be published by BTS on the BTS Web page.

DATES: Comments must be submitted on or before May 19, 2016.

FOR FURTHER INFORMATION CONTACT: Janine L. McFadden, (202) 366-2468, NCFO Project Manager, BTS, OST-R, Department of Transportation, 1200 New Jersey Ave. SE., Room E34-411, Washington, DC 20590. Office hours are from 8:00 a.m. to 5:30 p.m., E.T., Monday through Friday, except Federal holidays.

SUPPLEMENTARY INFORMATION: Title: National Census of Ferry Operators (NCFO)

Type of Request: Approval modifications to an existing information collection.

Affected Public: There are approximately 260 ferry operators nationwide.

Abstract: The Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 260 ferry operators to identify: (1) Existing ferry operations including the location and routes served; (2) source and amount, if any, of funds derived from Federal, State, or local governments supporting ferry construction or operations; (3) potential domestic ferry routes in the United States and its possessions; and (4) potential for use of high speed ferry services and alternative-fueled ferry services. The Safe, Accountable, Flexible Efficient Transportation Equity Act—A Legacy for Users (SAFETEA-LU) Pub. L. 109-59, Section 1801(e)) required that the Secretary, acting through the BTS, shall establish and maintain a national ferry database containing current information regarding routes, vessels, passengers and vehicles carried, funding sources and such other information as the Secretary considers useful. MAP-21 legislation [Moving Ahead for Progress in the 21st Century Act (Pub. L. 112-141),] continued the BTS mandate to conduct the NCFO and also required that the Federal Highway Administration (FHWA) use the NCFO data to set the specific formula for allocating federal ferry funds. The funding allocations were based on a percentage of the number of passenger boardings, vehicle boardings, and route miles served.

BTS conducted the first Census of Ferry Operators in 2006. The Census was conducted again in 2008, 2010, 2014, and is scheduled for the spring 2016. These information collections were originally approved by OMB under Control Number 2139-0009. The recently enacted FAST Act legislation [Fixing America's Surface Transportation Act (Pub. L. 114-94, sec. 1112)] continues the BTS mandate to conduct the NCFO on a biennial basis, and extended the requirement that the Federal Highway Administration (FHWA) use the NCFO data to set the specific formula for allocating federal ferry funds based on a percentage of the number of passenger boardings, vehicle boardings, and route miles served. The overall length of the revised questionnaire for the 2018 NCFO will remain consistent with that of previous years.

The survey will be administered to the entire population of ferry operators (estimate 260 or less). The survey will request the respondents to provide information such as: the points served; the type of ownership; the number of passengers and vehicles carried in the past 12 months; vessel descriptions (including type of fuel), federal, state and local funding sources, and intermodal connectivity. All data collected in 2018 will be added to the existing NCFO database.

Data Confidentiality Provisions: The National Census of Ferry Operators may collect confidential business information. The confidentiality of these data will be protected under 49 CFR 7.29. In accordance with this regulation, only statistical and non-sensitive business information will be made available through publications and public use data files. The statistical public use data are intended to provide an aggregated source of information on ferry boat operations nationwide. Business sensitive information may be shared with FHWA to support FAST Act funding allocations.

Frequency: This survey will be updated every other year.

Estimated Average Burden per Response: The burden per respondent is estimated to be an average of 30 minutes. This average is based on an estimate of 20 minutes to answer new questions and an additional 10 minutes to review.

Estimated Total Annual Burden: The total annual burden (in the year that the survey is conducted) is estimated to be just under 130 hours (that is 30 minutes per respondent for 260 respondents equals 7,800 minutes).

Response to Comments: A 60 day notice requesting public comment was issued in the Federal Register on February 3, 2016. No comments were received.

Public Comments Invited: Interested parties are invited to send comments regarding any aspect of this information collection, including, but not limited to: (1) The necessity and utility of the information collection for the proper performance of the functions of the DOT; (2) the accuracy of the estimated burden; (3) ways to enhance the quality, utility, clarity and content of the collected information; and (4) ways to minimize the collection burden without reducing the quality of the collected information. Send comments to the Office of Information and Regulatory Affairs, Office of Management and Budget, 725-17th Street NW., Washington, DC 20503, Attention: BTS Desk Officer.

Issued in Washington, DC on this 12th day of April, 2016.
Patricia Hu, Director,
Bureau of Transportation Statistics, Office of the Assistant Secretary for Research and Technology.

[FR Doc. 2016-08998 Filed 4-18-16; 8:45 am]

BILLING CODE 4910-9X-P